FEDERAL COMMUNICATIONS COMMISSION

47 CFR Part 15

[ET Docket No. 13-49; FCC 14-30]

Unlicensed National Information Infrastructure (U-NII) Devices in the 5 GHz Band

AGENCY: Federal Communications Commission.

ACTION: Final rules; announcement of effective date.

SUMMARY: In this document, the Commission announces that the Office of Management and Budget (OMB) has approved, for a period of three years, the information collection requirements contained in the regulations in the “Unlicensed National Information Infrastructure (U-NII) Devices in the 5 GHz Band.” The information collection requirements were approved on August 27, 2014 by OMB.

DATES: The amendments to 47 CFR 15.407(j), published at 79 FR 24569, May 1, 2014, is effective September 24, 2014.

FOR FURTHER INFORMATION CONTACT: For additional information contact Nancy Brooks on (202) 418-2454 or email Nancy.Brooks@fcc.gov.

SUPPLEMENTARY INFORMATION: This document announces that on August 27, 2014, OMB approved, for a period of three years, the information collection requirements contained in 47 CFR 15.407(j). The Commission publishes this document to announce the effective date of this rule section. See, Revision of Part 15 of the Commission's Rules to Permit Unlicensed National Information Infrastructure (U-NII) Devices in the 5 GHz Band, ET Docket No. 13-49; FCC 14-30, 79 FR 24569, May 1, 2014.

Synopsis

As required by the Paperwork Reduction Act of 1995, (44 U.S.C. 3507), the Commission is notifying the public that it received OMB approval on August 27, 2014, for the information collection requirement contained in 47 CFR 15.407(j). Under 5 CFR part 1320, an agency may not conduct or sponsor a collection of information unless it displays a current, valid OMB Control Number.

No person shall be subject to any penalty for failing to comply with a collection of information subject to the Paperwork Reduction Act that does not display a valid OMB Control Number.

The OMB Control Number is 3060-1199 and the total annual reporting burdens for respondents for this information collection are as follows:

OMB Control Number: 3060-1199.

OMB Approval Date: 8/27/2014.

OMB Expiration Date: 8/31/2017.

Title: Section 15.407(j), U-NII Operator Filing Requirement.

Form Number: N/A.

Type of Review: New collection.

Respondents: Businesses or other for-profit.

Number of Respondents: 17 Respondents; 17 Responses.

Estimated Time per Response: 32 hours.

Frequency of Response: On occasion one time reporting, recordkeeping and third party disclosure requirement.

Obligation to Respond: Required to obtain or retain benefits. Statutory authority for this information collection is contained in 47 U.S.C. 154(i), 301, 302a, 303(e), 303(f), 303(g), and 303(r).

Total Annual Burden: 544 hours.

Total Annual Costs: N/A.

Nature and Extent of Confidentiality: There is no need for confidentiality.

Privacy Act Impact Assessment: N/A.

Needs and Uses: On March 31, 2014, the Commission adopted a First Report and Order, Revision of Part 15 of the Commission's Rules to Permit Unlicensed National Information Infrastructure (U-NII) in the 5 GHz Band, ET Docket No. 13-49, FCC 14-30. Section 15.407(j) of the rules established filing requirements for U-NII operators that deploy a collection of more than one thousand outdoor access points with the 5.15-5.25 GHz band, parties must submit a letter to the Commission acknowledging that, should harmful interference to licensed services in this band occur, they will be required to take corrective action. Corrective actions may include reducing power, turning off devices, changing frequency bands, and/or further reducing power radiated in the vertical direction. This material shall be submitted to Laboratory Division, Office of Engineering and Technology, Federal Communications Commission, 7435 Oakland Mills Road, Columbia, MD 21046 Attn: U-NII Coordination, or via Web site at https://www.fcc.gov/labhelp with the subject line: “U-NII-1 Filing”.

Federal Communications Commission.
Marlene H. Dortch,
Secretary, Office of the Secretary, Office of the Managing Director.

[FR Doc. 2014-22610 Filed 9-23-14; 8:45 am]

BILLING CODE 6712-01-P